OFFICE OF MANAGEMENT AND BUDGET

Federal Activities Inventory Reform Act of 1998; Public Availability of Year 2002

SUBJECT: Public Availability of Year 2002 Agency Inventories Under the Federal Activities Inventory Reform Act of 1998 (Pub. L. 105-270) (“FAIR Act”).

AGENCY: Office of Management and Budget; Executive Office of the President.

ACTION: Notice of public availability of agency inventories of activities that are not inherently governmental and of activities that are inherently governmental.

SUMMARY: Agency inventories of activities that are not inherently governmental are now available to the public from the agencies listed below, in accordance with the “Federal Activities Inventory Reform Act of 1998” (Pub. L. 105-270) (“FAIR Act”). Agency inventories of activities that are inherently governmental are also now available to the public from the agencies listed below. This is the third release of the 2002 FAIR Act inventories. The Office of Federal Procurement Policy has made available a summary FAIR Act User's Guide through its Internet site: http://www.whitehouse.gov/OMB/procurement/index.html. The User's Guide should help interested parties review 2002 FAIR Act inventories, and gain access to agency inventories through agency Web site addresses.

The FAIR Act requires OMB to publish an announcement of public availability of agency inventories of activities that are not inherently governmental upon completion of OMB's review and consultation process concerning the content of the agencies' inventory submissions. After review and consultation with OMB, the agency inventories are made available to the public. Interested parties who disagree with the agency's initial judgment can challenge the inclusion or the omission of an activity on the list and, if not satisfied with this review, may also demand a higher agency review/appeal.

Mitchell E. Daniels, Jr.,
Director.

Attachment:

Third FAIR Act Release 2002
Agency | Contact
American Battle Monuments Commission | Vincent Scatamacchia (703) 696-6898, William Athas (703) 696-6869, www.abmc.gov.
Arlington National Cemetery | Rory Smith (703) 614-5060 www.arlingtoncemetery.org.
Armed Forces Retirement Home | Steve McManus (202) 730-3533, www.afrh.com.
Chemical Safety and Hazard Investigation Board | Bea Robinson, (202) 261-7627, www.csb.gov.
Defense Nuclear Facilities Safety Board | Kenneth M. Pusateri (202) 694-7000, www.dnfsb.gov.
Department of Agriculture | Barbara McNeal (202) 720-0995, www.usda.gov/ocfo.
Department of Agriculture, IG | Delmas R. Thornsbury (202) 720-4474, www.usda.gov/oig.
Department of Commerce | Edna Campbell (202) 482-4115, www.osec.doc.gov/oebam/fair/.
Department of Defense | Paul Soloman (703) 824-2692 (Hotline #), http://web.lmi.org/fairnet/. Note: The POC for individual DOD components can be obtained from the DOD Web site.
Department of Energy | Mark Hively, (202) 586-5655, www.ma.mbe.doe.gov/a-76.
Department of Justice | Larry Silvis, (202) 616-3754, www.usdoj.gov/jmd/pe/preface.htm.
Department of Labor | Kathy Alejandro, (202) 693-4026, www.dol.gov/OASAM/programs/boc/welcome2boc.html.
Department of State | Eugene Batt (202) 663-2325, www.state.gov.
Department of Transportation | Barbara Fallat, (202) 366-4974, www.dot.gov/ost/m60/FairAct.
Farm Credit Administration | Philip Shebest, (703) 883-4146, www.fca.gov.
Federal Election Commission | John O'Brien, (202) 694-1216, www.fec.gov.
Federal Energy Regulatory Commission | Kimberly F. Fernandez, (202) 502-8302, www.ferc.gov.
Federal Labor Relations Authority | Kevin Kopper, (202) 482-6690 (ext. 425), www.flra.gov/reports/fair_inv02.cmmrcl.html.
Federal Maritime Commission | JoAnn Baca, (202) 523-5800, www.fmc.gov.
General Services Administration | Paul Boyle (202) 501-0324, www.gsa.gov/Portal/content/orgs_content.jsp? contentOID=123082&contentType=1005.
Marine Mammal Commission | Suzanne Montgomery (301) 504-0087.
Nuclear Regulatory Commission | Mark J. Flynn (301) 415-6736, www.nrc.gov/who-we-are/contracting/inventory-report.
Nuclear Regulatory Commission, IG | David Lee (301) 415-5930, www.nrc.gov/insp-gen/fairact-inventory.html.
Nuclear Waste Technical Review Board | Joyce M. Dory (703) 235-4473, www.nwtrb.gov.
Office of Federal Housing Enterprise Oversight | Jill Weide, (202) 414-3813, www.ofheo.gov.
Office of Government Ethics | Sean Donohue, (202) 208-8000, x1217, www.usoge.gov.
Office of Personnel Management | Steven VanRees, (202) 606-2200, www.opm.gov/procure.
Selective Service System | Freida Brockington (703) 605-4081, www.sss.gov.
Small Business Administration | Robert Moffitt, (202) 205-6610, www.sba.gov/fair.
Smithsonian Institution | Alice Maroni (202) 275-2020, www.si.edu.
Social Security Administration | Phil Kelly (410) 965-4656, www.ssa.gov/.
U.S. Agency for International Development | Debra Lewis, (202) 712-0936, www.usaid.gov/procurement_bus_opp/.
U.S. Agency for International Development, Office of the Inspector General | Cheryl Woodard, (202) 712-4129, www.usaid.gov/procurement_bus_opp/.

[FR Doc. 03-2827 Filed 2-5-03; 8:45 am]

BILLING CODE 3110-01-P